DEPARTMENT OF THE INTERIOR

Bureau of Land Management

[UT-030-00-1220-EN]

Notice of Availability of Draft Environmental Impact Statement for 3R Minerals Coal Bed Canyon Mine

AGENCY: Bureau of Land Management, Utah State Office, DOI.

ACTION: Notice of Availability of Draft Environmental Impact Statement.

SUMMARY: In accordance with section 102 of the National Environmental Policy Act of 1969, a draft environmental impact statement (DEIS) for 3R Minerals Coal Bed Canyon Mine proposal on lands within Grand Staircase-Escalante National Monument, has been prepared and is available for review and comment. This DEIS is prepared in response to the Notice of Intent to Revise Mining Operations filed by 3R Minerals in June 1999. It analyzes the anticipated impacts of 3R Minerals' proposed action and three alternatives to the proposal.

ADDRESSES: Copies of the DEIS may be obtained from the following Bureau of Land Management Locations: Grand Staircase-Escalante National Monument Headquarters, 180 West 300 North, Kanab, Utah 84741; Grand Staircase-Escalante National Monument Escalante Field Station, 755 West Main, Escalante, Utah; Utah State Office, 324 South State Street, Suite 301, Salt Lake City, Utah. Copies may be obtained by mail by contacting the Monument Headquarters at the above address or telephoning 435-644-4300.

DATES: Comments must be received by Grand Staircase-Escalante National Monument Headquarters, 180 West 300 North, Kanab, Utah 84741 by December 4, 2000. An open house will be held at the Conference Center at Ruby's Inn, located on Highway 63 near the entrance to Bryce Canyon National Park, on November 6, 2000 from 5:00 pm to 8:00 pm. The purpose of the open house is to clarify information in the DEIS. IT IS NOT INTENDED TO BE A PUBLIC HEARING.

FOR FURTHER INFORMATION CONTACT: Paul Chapman, Grand Staircase-Escalante National Monument Headquarters, 435-644-4309, or Kate Cannon, Monument Manager, Grand Staircase-Escalante National Monument Headquarters, 435-644-4330.

SUPPLEMENTARY INFORMATION: The DEIS analyzes four alternatives summarized as follows: Alternative A is the Proposed Action as submitted by 3R Minerals; Alternative B is the BLM Preferred Alternative which is to approve 3R Minerals proposed action with certain conditions of approval; Alternative C is the No Action Alternative which would be denial of 3R Minerals' Notice of Intent to Revise Mining Operations in which case 3R Minerals would continue to mine in accordance with the approvals from the State of Utah; and Alternative D, the No Mining alternative where 3R Minerals could not mine. Since mining under the approvals granted by the State of Utah is a valid existing right, the BLM has no statutory authority to select Alternative D but the alternative is presented as baseline with which to compare the other alternatives. Mining activity is based on a mineral lease issued by the Utah State Institutional Trust Lands Administration when the site was still State land. Although the lease was issued after the Monument was established, it occurred on State lands which were not affected by the Presidential Proclamation. 3R Minerals was granted approval to mine by appropriate State agencies and has been conducting limited mining activity on the site. Ownership of the land was exchanged to the Federal Government via the Utah Schools and Lands Exchange Act of 1998. Language in that act preserved 3R Minerals' existing right to mine as approved by the State. Therefore, the decision to be made in this EIS is not whether mining should be allowed, but rather whether the Notice of Intent to Revise Mining Operations should be approved, approved with certain conditions, or denied.

Sally Wisely,
State Director.

[FR Doc. 00-25109 Filed 10-5-00; 8:45 am]

BILLING CODE 4310-DQ-U